DEPARTMENT OF ENERGY

Federal Energy Regulatory Commission

Combined Notice of Filings #1

Take notice that the Commission received the following electric corporate filings:

Docket Numbers: EC15-145-000.

Applicants: Lost Creek Wind, LLC.

Description: Application for Authorization of Transaction Under Section 203 of the Federal Power Act, Requests for Expedited Action, Waivers of Filing Requirements and Confidential Treatment of Transaction Documents of Lost Creek Wind, LLC, et al.

Filed Date: 5/22/15.

Accession Number: 20150522-5321.

Comments Due: 5 p.m. ET 6/12/15.

Take notice that the Commission received the following electric rate filings:

Docket Numbers: ER10-1325-002; ER10-1946-002; ER14-2323-000; ER11-2080-002; ER10-1333-002; ER14-2319-000; ER12-1958-002; ER14-2321-000; ER10-1335-002.

Applicants: CinCap V LLC, Duke Energy Beckjord, LLC, Duke Energy Commercial Asset Management, Inc., Duke Energy Commercial Enterprises, Inc., Duke Energy Piketon, LLC, Duke Energy Retail Sales, LLC.

Description: Additional information related to June 30, 2014 Triennial Market Power Analysis Update for the Southeast Region of Duke Energy Corporation MBR Sellers.

Filed Date: 5/21/15.

Accession Number: 20150521-5250.

Comments Due: 5 p.m. ET 6/11/15.

Docket Numbers: ER15-1222-002.

Applicants: Southern California Edison Company.

Description: Tariff Amendment per 35.17(b): Amended GIA and Distrib Serv Agmt re Edom Hills Wind Park Project to be effective 12/31/9998.

Filed Date: 5/22/15.

Accession Number: 20150522-5009.

Comments Due: 5 p.m. ET 6/12/15.

Docket Numbers: ER15-1365-001.

Applicants: Morris Cogeneration, LLC.

Description: Tariff Amendment per 35.17(b): Response to Deficiency Letter to be effective 5/1/2015.

Filed Date: 5/22/15.

Accession Number: 20150522-5006.

Comments Due: 5 p.m. ET 6/12/15.

Docket Numbers: ER15-1406-001.

Applicants: Midcontinent Independent System Operator, Inc.

Description: Tariff Amendment per 35.17(b): 2015-05-22_SA 2766 Amendment to ATC-City of Elkhorn CFA to be effective 5/31/2015.

Filed Date: 5/22/15.

Accession Number: 20150522-5067.

Comments Due: 5 p.m. ET 6/12/15.

Docket Numbers: ER15-1407-001.

Applicants: Midcontinent Independent System Operator, Inc.

Description: Tariff Amendment per 35.17(b): 2015-05-22_SA 2767 Amendment to ATC-Manitowoc Public Utilities CFA to be effective 5/31/2015.

Filed Date: 5/22/15.

Accession Number: 20150522-5068.

Comments Due: 5 p.m. ET 6/12/15.

Docket Numbers: ER15-1409-001.

Applicants: Midcontinent Independent System Operator, Inc.

Description: Tariff Amendment per 35.17(b): 2015-05-22_SA 2769 Amendment to ATC-City of Reedsburg CFA to be effective 5/31/2015.

Filed Date: 5/22/15.

Accession Number: 20150522-5081.

Comments Due: 5 p.m. ET 6/12/15.

Docket Numbers: ER15-1411-001.

Applicants: Midcontinent Independent System Operator, Inc.

Description: Tariff Amendment per 35.17(b): 2015-05-22_SA 2770 Amendment to ATC-City of Sun Prairie CFA to be effective 5/31/2015.

Filed Date: 5/22/15.

Accession Number: 20150522-5103.

Comments Due: 5 p.m. ET 6/12/15.

Docket Numbers: ER15-1473-001.

Applicants: Midcontinent Independent System Operator, Inc.

Description: Tariff Amendment per 35.17(b): 2015-05-22_SA 2771 Amendment to ATC-Cloverland CFA to be effective 6/8/2015.

Filed Date: 5/22/15.

Accession Number: 20150522-5104.

Comments Due: 5 p.m. ET 6/12/15.

Docket Numbers: ER15-1479-001.

Applicants: Midcontinent Independent System Operator, Inc.

Description: Tariff Amendment per 35.17(b): 2015-05-22_SA 2773 Amendment to ATC-Adams Columbia CFA to be effective 6/9/2015.

Filed Date: 5/22/15.

Accession Number: 20150522-5105.

Comments Due: 5 p.m. ET 6/12/15.

Docket Numbers: ER15-1481-001.

Applicants: Midcontinent Independent System Operator, Inc.

Description: Tariff Amendment per 35.17(b): 2015-05-22_SA 2776 Amendment to ATC-Village of Prairie du Sac CFA to be effective 6/9/2015.

Filed Date: 5/22/15.

Accession Number: 20150522-5142.

Comments Due: 5 p.m. ET 6/12/15.

Docket Numbers: ER15-1482-001.

Applicants: Midcontinent Independent System Operator, Inc.

Description: Tariff Amendment per 35.17(b): 2015-05-22_SA 2777 Amendment to ATC-City of Wisconsin Rapids CFA to be effective 6/9/2015.

Filed Date: 5/22/15.

Accession Number: 20150522-5144.

Comments Due: 5 p.m. ET 6/12/15.

Docket Numbers: ER15-1483-001.

Applicants: Midcontinent Independent System Operator, Inc.

Description: Tariff Amendment per 35.17(b): 2015-05-22_SA 2775 Amendment to ATC-Marshfield Electric CFA to be effective 6/9/2015.

Filed Date: 5/22/15.

Accession Number: 20150522-5140.

Comments Due: 5 p.m. ET 6/12/15.

Docket Numbers: ER15-1630-001.

Applicants: US Borax, Inc.

Description: Tariff Amendment per 35.17(b): Supplement to MBRA to be effective 6/30/2015.

Filed Date: 5/22/15.

Accession Number: 20150522-5107.

Comments Due: 5 p.m. ET 6/12/15.

Docket Numbers: ER15-1767-000.

Applicants: Midcontinent Independent System Operator, Inc.

Description: Request for One-Time Waiver of Certain Tariff Provisions of Midcontinent Independent System Operator, Inc.

Filed Date: 5/21/15.

Accession Number: 20150521-5245.

Comments Due: 5 p.m. ET 6/11/15.

Docket Numbers: ER15-1768-000.

Applicants: ISO New England Inc.

Description: § 205(d) rate filing per 35.13(a)(2)(iii): Conforming Filing for Tariff Section III.10, Record ID No. 138 to be effective 6/1/2015.

Filed Date: 5/22/15.

Accession Number: 20150522-5101.

Comments Due: 5 p.m. ET 6/12/15.

Docket Numbers: ER15-1769-000.

Applicants: DPL Energy Resources, Inc.

Description: Notice of Cancellation of Market Based Rate Tariff Rate Schedule No. 1 of DPL Energy Resources, Inc.

Filed Date: 5/22/15.

Accession Number: 20150522-5202.

Comments Due: 5 p.m. ET 6/12/15.

Docket Numbers: ER15-1770-000.

Applicants: PJM Interconnection, L.L.C.

Description: § 205(d) rate filing per 35.13(a)(2)(iii): PJM submits revisions to OA Schedule 12 to remove Intergrid Mideast Group, LLC to be effective 12/31/9998.

Filed Date: 5/22/15.

Accession Number: 20150522-5204.

Comments Due: 5 p.m. ET 6/12/15.

Docket Numbers: ER15-1771-000.

Applicants: Midcontinent Independent System Operator, Inc.

Description: § 205(d) rate filing per 35.13(a)(2)(iii): 2015-05-22 Mississippi LRZ Filing to be effective 7/22/2015.

Filed Date: 5/22/15.

Accession Number: 20150522-5267.

Comments Due: 5 p.m. ET 6/12/15.

Docket Numbers: ER15-1772-000.

Applicants: Interstate Power and Light Company.

Description: § 205(d) rate filing per 35.13(a)(2)(iii): Interstate Power and Light Company Wholesale Power Supply Agreement to be effective 12/31/9998.

Filed Date: 5/22/15.

Accession Number: 20150522-5270.

Comments Due: 5 p.m. ET 6/12/15.

Docket Numbers: ER15-1775-000.

Applicants: Southwest Power Pool, Inc.

Description: § 205(d) rate filing per 35.13(a)(2)(iii): Basin Electric Power Cooperative Formula Rate to be effective 10/1/2015.

Filed Date: 5/22/15.

Accession Number: 20150522-5358.

Comments Due: 5 p.m. ET 6/12/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 22, 2015.
Nathaniel J. Davis, Sr.,
Deputy Secretary.

[FR Doc. 2015-13076 Filed 5-29-15; 8:45 am]

BILLING CODE 6717-01-P